DEPARTMENT OF THE INTERIOR

National Park Service

[NPS-WASO-NAGPRA-23403; PPWOCRADN0-PCU00RP14.R50000]

Notice of Inventory Completion: U.S. Department of Defense, Department of the Air Force, Air Education and Training Command, Barry M. Goldwater Range East, 56th Range Management Office, Luke Air Force Base, AZ

AGENCY: National Park Service, Interior.

ACTION: Notice.

SUMMARY: The U.S. Department of Defense, Department of the Air Force, Air Education and Training Command, Barry M. Goldwater Range East, 56th Range Management Office, Luke Air Force Base, has completed an inventory of human remains and associated funerary objects, in consultation with the appropriate Indian tribes, and has determined that there is a cultural affiliation between the human remains and associated funerary objects and present-day Indian tribes. Lineal descendants or representatives of any Indian tribe not identified in this notice that wish to request transfer of control of these human remains and associated funerary objects should submit a written request to the 56th Range Management Office, Luke Air Force Base. If no additional requestors come forward, transfer of control of the human remains and associated funerary objects to lineal descendants or Indian tribes stated in this notice may proceed.

DATES: Lineal descendants or representatives of any Indian tribe not identified in this notice that wish to request transfer of control of these human remains and associated funerary objects should submit a written request with information in support of the request to the 56th Range Management Office, Luke Air Force Base by July 31, 2017.

ADDRESSES: Mr. Charles Buchanan, Director, 56th Range Management Office, 7101 Jerstad Lane, Building 500, Luke Air Force Base, AZ 85309, phone (623) 856-5820, email charles.buchanan@us.af.mil.

SUPPLEMENTARY INFORMATION: Notice is here given in accordance with the Native American Graves Protection and Repatriation Act (NAGPRA), 25 U.S.C. 3003, of the completion of an inventory of human remains and associated funerary objects under the control of the 56th Range Management Office, Luke Air Force Base, and in physical custody of the Arizona State Museum, Tucson, AZ. The human remains and associated funerary objects were removed from site AZ Y:8:001 (ASM), Maricopa County, AZ.

This notice is published as part of the National Park Service's administrative responsibilities under NAGPRA, 25 U.S.C. 3003(d)(3). The determinations in this notice are the sole responsibility of the Department of the Air Force, 56th Range Management Office, Luke Air Force Base, which has control of the Native American human remains and associated funerary objects. The National Park Service is not responsible for the determinations in this notice.

Consultation

A detailed assessment of the human remains was made by Arizona State Museum and the 56th Range Management Office, Luke Air Force Base, professional staff in consultation with representatives of the Ak Chin Indian Community (previously listed as the Ak Chin Indian Community of the Maricopa (Ak Chin) Indian Reservation, Arizona); Gila River Indian Community of the Gila River Indian Reservation, Arizona; Quechan Tribe of the Fort Yuma Indian Reservation, California & Arizona; Salt River Pima-Maricopa Indian Community of the Salt River Reservation, Arizona; Tohono O'odham Nation of Arizona; and Yavapai-Apache Nation of the Camp Verde Indian Reservation, Arizona. The following Indian tribes were invited to consult but did not participate in consultations: The Cocopah Tribe of Arizona; Colorado River Indian Tribes of the Colorado River Indian Reservation, Arizona and California; Fort McDowell Yavapai Nation, Arizona; Fort Mohave Indian Tribe of Arizona, California & Nevada; Hopi Tribe of Arizona; San Carlos Apache Tribe of the San Carlos Reservation, Arizona; Yavapai-Prescott Indian Tribe (previously listed as the Yavapai-Prescott Tribe of the Yavapai Reservation, Arizona); and Zuni Tribe of the Zuni Reservation, New Mexico. All tribes listed are referred to as the “Invited and Consulted Tribes.”

History and Description of the Remains

On September 21, 1978, human remains representing, at minimum, one individual were removed from site AZ Y:8:001 (ASM) on the Barry M. Goldwater Range East, Maricopa County, AZ (formerly the Luke AFB Bombing and Gunnery Range). The human remains, Cremation 1, were removed from Component 2, during an authorized archeological excavation under the direction of Dr. Bruce Huckell, Arizona State Museum, AZ. The collection was transferred to the Arizona State Museum on September 28, 1978, where it is currently curated. A professional report on the collection was published in 1979: The Coronet REAL Project: Archaeological Investigations on the Luke Range, Southwestern Arizona, by Bruce B. Huckell. Arizona State Museum Archaeological Series No. 129.

The estimated age of the individual at death is older than 40 years based on dentition and ectocranial suture of the sagittal suture. The sex of the cremation was determined to be male based on evidence from the skull and in nominate. The stature of the individual is indeterminate due to the fragmentary nature of the long bones. No known individuals were identified. The 21 associated funerary objects include 1 reconstructed Tanque Verde Red-on-Brown ceramic pitcher with missing handle (1979-145-1); 1 lot of sherds of a burned Colorado Red bowl (1979-145-10); 1 bone awl (1979-145-6); 3 rim sherds of a burned Tonto Polychrome bowl (1979-145-7:x); 14 body sherds of the same burned Tonto Polychrome bowl (1979-145-8:x), and 1 piece of worked animal bone (None-1979-145-C1-01).

Based on morphological characteristics, geographic location, archeological context, and the presence of culturally and temporally identifiable ceramics, and consistency in cremation pit size and orientation, the human remains have been determined to be Native American dating to the Classic period (A.D. 1150-1450) Tucson Basin Hohokam. The cremation pit and orientation of the remains (the long-axis of the body was aligned east-west, with the head at the east) are consistent with Classic Period Hohokam sites in the Gila Bend area and Tucson Basin. The cremation pit is identical in size and shape with primary cremations from site AZ AA:12:46 (ASM), the Rabid Ruin, a Tucson Basin Hohokam site.

A relationship of shared group identity can reasonably be traced between members of the Hohokam culture and the four southern O'odham tribes of Arizona. The O'odham comprise four Federally recognized Indian tribes (Ak Chin Indian Community of the Maricopa (Ak Chin) Indian Reservation, Arizona); Gila River Indian Community of the Gila River Indian Reservation, Arizona; Salt River Pima-Maricopa Indian Community of the Salt River Reservation, Arizona; and Tohono O'odham Nation of Arizona. Historically the Pimeria Alta is the traditional homeland of the O'odham; including the river people (Akimel), the desert people (Tohono) and the sand people (Hia C-ed O'odham). O'odham oral history teaches that the O'odham were created in this land and have always lived here. Places mentioned in the Creation Story and other stories and songs have been identified on the landscape throughout the Sonoran Desert.

A relationship of shared group identity may also reasonably be traced between members of the Hohokam culture of the Phoenix Basin and clans of the Hopi Tribe of Arizona. Hopi history is based, in large part, on clan migration narratives. The Hopi consider all of Arizona to be within traditional Hopi lands, i.e., areas in and through which Hopi clans are believed to have migrated in the past. Hopi oral history and the anthropological record show that some clans originated in the Salt-Gila region and were descended from the Hohokam. After the fall of the Great House communities, Hohokam refugees were absorbed into the Hopi culture.

A relationship of shared group identity can also reasonably be traced between members of the Hohokam culture and the Zuni Tribe of the Zuni Reservation, New Mexico. Zuni oral history tells of ancestral migrations and settling throughout this region in their search for the Middle Place of the World (present day Pueblo of Zuni). Zuni ancestors left many markers of their passing including trails, habitation sites, campsites, and burials. Elders have identified features in the area, including shrines and petroglyphs, as Zuni.

A relationship of shared group identity may also be reasonably be traced between members of the Patayan culture and the Quechan tribe of the Fort Yuma Indian Reservation, California & Arizona. The Colorado Red bowl is associated with the archeological culture identified as Patayan, which the Quechan believe were their ancestors.

Determinations of the Luke Air Force Base

Officials of the 56th Range Management Office, Luke Air Force Base have determined that:

• Pursuant to 25 U.S.C. 301(9), the human remains described in this notice represent the physical remains of one individual of Native American ancestry.

• Pursuant to 25 U.S.C. 301(3)(A), the 21 objects described in this notice are reasonably believed to have been placed with or near individual human remains at the time of death or later as part of the death rite or ceremony.

• Pursuant to 25 U.S.C. 301(2), there is a relationship of shared group identity that can be reasonably traced between the Native American human remains and associated funerary objects and the Ak Chin Indian Community (previously listed as the Ak Chin Indian Community of the Maricopa (Ak Chin) Indian Reservation, Arizona; Gila River Indian Community of the Gila River Indian Reservation, Arizona; Hopi Tribe of Arizona; Quechan Tribe of the Fort Yuma Indian Reservation, California & Arizona; Salt River Pima-Maricopa Indian Community of the Salt River Reservation, Arizona; Tohono O'odham Nation of Arizona; and Zuni Tribe of the Zuni Reservation, New Mexico.

Additional Requestors and Disposition

Lineal descendants or representatives of any Indian tribe not identified in this notice that wish to request transfer of control of these human remains and associated funerary objects should submit a written request with information in support of the request to Mr. Charles Buchanan, Director, 56th Range Management Office, Barry M. Goldwater Range East, 7101 Jerstad Lane, Luke Air Force Base, AZ 85309, phone (623) 856-8520, email charles.buchanan@us.af.mil, by July 31, 2017. After that date, if no additional requestors have come forward, transfer of control of the human remains and associated funerary objects to the Ak Chin Indian Community of the Maricopa (Ak Chin) Indian Reservation, Arizona; Gila River Indian Community of the Gila River Indian Reservation, Arizona; Hopi Tribe of Arizona; Quechan Tribe of the Fort Yuma Indian Reservation, California & Arizona; Salt River Pima-Maricopa Indian Community of the Salt River Reservation, Arizona; Tohono O'odham Nation of Arizona; and Zuni Tribe of the Zuni Reservation, New Mexico, may proceed.

The 56th Range Management Office, Luke Air Force Base, is responsible for notifying the Invited and Consulted Tribes that this notice has been published.

Dated: May 15, 2017.
Melanie, O'Brien,
Manager, National NAGPRA Program.

[FR Doc. 2017-13736 Filed 6-29-17; 8:45 am]

BILLING CODE 4312-52-P